DEPARTMENT OF LABOR

Employment and Training Administration

Investigations Regarding Certifications of Eligibility To Apply for Worker Adjustment Assistance and Alternative Trade Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 6, 2008.

Interested persons are invited to submit written comments regarding the subject matter of the investigations to the Director, Division of Trade Adjustment Assistance, at the address shown below, not later than October 6, 2008.

The petitions filed in this case are available for inspection at the Office of the Director, Division of Trade Adjustment Assistance, Employment and Training Administration, U.S. Department of Labor, Room C-5311, 200 Constitution Avenue, NW., Washington, DC 20210.

Signed at Washington, DC, this 17th day of September 2008.
Erin Fitzgerald,
Director, Division of Trade Adjustment Assistance.

APPENDIX
[TAA petitions instituted between 9/8/08 and 9/12/08]
TA-W | Subject firm (Petitioners) | Location | Date of institution | Date of petition
63997 | Lapeer Metal Stamping, Inc. (Wkrs) | Dearborn, MI | 09/08/08 | 09/04/08
63998 | Jabil Global Service (State) | St. Petersburg, FL | 09/08/08 | 09/05/08
63999 | Rahmann Belting and Industrial Rubber (Wkrs) | Gastonia, NC | 09/08/08 | 09/04/08
64000 | Northwood Manufacturing (State) | La Grande, OR | 09/08/08 | 09/05/08
64001 | Fleetwood Travel Trailers of Oregon, Inc. (State) | La Grande, OR | 09/08/08 | 09/05/08
64002 | Lapeer Metal Stamping—Sebewaing (Wkrs) | Sebewaing, MI | 09/08/08 | 09/05/08
64003 | Lapeer Metal Stamping—T. Clemens Mich. Div. (Wkrs) | Mt. Clemens, MI | 09/08/08 | 09/05/08
64004 | Trelleborg Wheel Systems America, Inc. (TWSA) (Comp) | Hartville, OH | 09/09/08 | 09/08/08
64005 | Sli Lighting Products, Inc. (29574) | Mullins, SC | 09/09/08 | 09/08/08
64006 | Amphenol Corporation (Wkrs) | Sidney, NY | 09/09/08 | 08/28/08
64007 | Lexis Nexis (Wkrs) | Dayton, OH | 09/09/08 | 09/05/08
64008 | Clasonickansei North America, Inc. (Comp) | Irvine, CA | 09/09/08 | 09/08/08
64009 | Rexnard Industries, LLC (USW) | West Milwaukee, WI | 09/09/08 | 09/06/08
64010 | Blue Water Automotive Systems, Inc.—St. Clair (Comp) | St. Clair, MI | 09/09/08 | 09/08/08
64011 | Johnson Controls, Inc. (Comp) | Cadiz, KY | 09/09/08 | 09/08/08
64012 | Metro Furniture (Comp) | Oakland, CA | 09/10/08 | 09/09/08
64013 | Sala Burgress Automotive (Comp) | Cary, NC | 09/10/08 | 09/09/08
64014 | Delphi Powertrain—CTCM (Wkrs) | Auburn Hills, MI | 09/10/08 | 09/09/08
64015 | Kam Manufacturing, Inc. (Wkrs) | Van Wert, OH | 09/10/08 | 09/09/08
64016 | Turbine Airfoil Designs (Comp) | Harrisburg, PA | 09/10/08 | 09/09/08
64017 | The News Messenger (Wkrs) | Fremont, OH | 09/10/08 | 09/09/08
64018 | Hoffmaster Group, Inc. (USW) | Appleton, WI | 09/10/08 | 09/09/08
64019 | Whittier Wood Products (Comp) | Eugene, OR | 09/10/08 | 09/09/08
64020 | American Multimedia, Inc. (Wkrs) | Burlington, NC | 09/10/08 | 09/03/08
64021 | Robert Bosch, LLC (Comp) | Sumter, SC | 09/10/08 | 09/09/08
64022 | Honeywell International/Scanning and Mobility (Comp) | Skaneateles Falls, NY | 09/10/08 | 09/09/08
64023 | CBC Latrobe Acquisitions, LLC (Wkrs) | Latrobe, PA | 09/10/08 | 09/08/08
64024 | Blackstone NEY Ultrasonics (Wkrs) | Jamestown, NY | 09/10/08 | 09/09/08
64025 | Rail Terminal Service (State) | Dupo, IL | 09/11/08 | 09/10/08
64026 | St. Louis Post Dispatch (CWA) | St. Louis, MO | 09/11/08 | 09/10/08
64027 | Delphi Powertain (Wkrs) | Flint, MI | 09/11/08 | 09/09/08
64028 | Edinboro Molding, Inc. (Comp) | Edinboro, PA | 09/11/08 | 09/10/08
64029 | Tennessee Wood Resources, LLC (Comp) | Jamestown, TN | 09/11/08 | 09/10/08
64030 | Fairchild Semiconductor (State) | So. Portland, ME | 09/11/08 | 09/10/08
64031 | Gates Corporation (Comp) | Jefferson, NC | 09/11/08 | 09/06/08
64032 | Schawk, Inc. (Wkrs) | Cincinnati, OH | 09/11/08 | 09/08/08
64033 | Eaton Corporation (UAW) | Auburn, IN | 09/11/08 | 09/10/08
64034 | Regina Behar Enterprises, Inc. (Wkrs) | Miami Lakes, FL | 09/11/08 | 09/08/08
64035 | The Hershey Company (Comp) | Reading, PA | 09/12/08 | 09/11/08
64036 | Hamilton Dental Designs, Inc. (State) | Modesto, CA | 09/12/08 | 09/11/08
64037 | U.S. Textile Corporation (Comp) | Lancaster, SC | 09/12/08 | 09/11/08
64038 | Phoenix Leather, Inc. (Comp) | Brockton, MA | 09/12/08 | 09/11/08
64039 | Kaz, Inc. (Comp) | Hudson, NY | 09/12/08 | 09/12/08
64040 | Borg Warner Thermal Systems (Wkrs) | Fletcher, NC | 09/12/08 | 09/05/08

[FR Doc. E8-22398 Filed 9-23-08; 8:45 am]

BILLING CODE 4510-FN-P